FEDERAL COMMUNICATIONS COMMISSION

47 CFR Part 73

[DA 04-3231; MB Docket No. 04-72; RM-10857]

Radio Broadcasting Services; Bethel and Windsor, NC

AGENCY: Federal Communications Commission.

ACTION: Final rule.

SUMMARY: In response to petition for rule making filed by Eure Communications, Inc. and Lifeline Ministries, Inc. this document substitutes Channel 255C3 for Channel 255A at Windsor, North Carolina, reallots Channel 255C3 from Windsor to Bethel, North Carolina, and modifies the Station WIAM license to specify operation on Channel 255C3 at Bethel. See 69 FR 17125, April 1, 2004. The reference coordinates for the Channel 255C3 allotment at Bethel, North Carolina, are 35-48-25 and 77-22-44. With this action, the proceeding is terminated.

DATES: Effective November 29, 2004.

FOR FURTHER INFORMATION CONTACT: Robert Hayne, Media Bureau, (202) 418-2177.

SUPPLEMENTARY INFORMATION: This is a synopsis of the Report and Order in MB Docket No.04-72 adopted October 13, 2004, and released October 15, 2004. The full text of this decision is available for inspection and copying during normal business hours in the FCC Reference Information Center at Portals ll, CY-A257, 445 12th Street, SW., Washington, DC. The complete text of this decision may also be purchased from the Commission's copy contractor, Best Copy and Printing, Inc., 445 12th Street, SW., Room CY-B402, Washington, DC 20554, telephone 1-800-378-3160 or http://www.BCPIWEB.com. The Commission will send a copy of this Report and Order in a report to be sent to Congress and the General Accounting Office pursuant to the Congressional Review Act, see 5 U.S.C. 801(a)(1)(A).

List of Subjects in 47 CFR Part 73

Radio, Radio broadcasting.

Part 73 of the Code of Federal Regulations is amended as follows:

PART 73—RADIO BROADCAST SERVICES

1. The authority citation for part 73 continues to read as follows:

Authority: 47 U.S.C. 154, 303, 334 and 336.

§ 73.202 [Amended]

2. Section 73.202(b), the Table of FM Allotments under North Carolina, is amended by removing Channel 255A at Windsor and by adding Bethel, Channel 255C3.

Federal Communications Commission.
John A. Karousos,
Assistant Chief, Audio Division, Media Bureau.

[FR Doc. 04-24437 Filed 11-1-04; 8:45 am]

BILLING CODE 6712-01-P